DEPARTMENT OF HEALTH AND HUMAN SERVICES

Office of the Secretary

Agency Information Collection Activities: Submission for OMB Review; Comment Request

AGENCY: Office of the Secretary, HHS.

In compliance with the requirement of section 3506(c)(2)(A) of the Paperwork Reduction Act of 1995, the Office of the Secretary, Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New.

Title of Information Collection: Office for Civil Rights Complaint Forms.

Form No.: OS-OCR Complaint Forms (OMB #0938—Newcc).

Use: Under these authorities, individuals may file written complaints with OCR when they believe they have been discriminated against or if they believe that on or after April 14, 2003, their right to the privacy of protected health information has been violated. OCR has developed two complaint forms—one for civil rights discrimination complaints and one for complaints alleging violation of the privacy of protected health information. The use of these forms will be voluntary; complaints may be submitted via other means such as letter or e-mail. The Office for Civil Rights (OCR) is responsible for enforcing Title VI of the Civil Rights Act of 1964, section 504 of the Rehabilitation Act of 1973, the Age Discrimination Act of 1975 and other statutes which prohibit discrimination by programs or entities that receive Federal financial assistance from HHS. Additionally, OCR has jurisdiction over Federally-conducted programs in cases involving disability-based discrimination under section 504 of the Rehabilitation Act, over State and local public entities in cases involving disability-based discrimination under Title II of the Americans with Disabilities Act and, effective April 14, 2003, over certain health plans, health clearinghouses and health care providers with respect to enforcement of the standards for privacy of individually identifiable health information rule issued pursuant to the Health Insurance Portability and Accountability Act (HIPAA).

Frequency: On occasion.

Affected Public: Individuals.

Number of Respondents: 23,800 (2,100 discrimination/21,700 medical privacy).

Total Annual Responses: 23,800.

Total Annual Hours: 16,275.

To obtain copies of the supporting statement and any related forms for the proposed paperwork collections referenced above, call the OS Reports Clearance Office at (202) 619-2118 or e-mail Geerie.Jones@HHS.gov.

Written comments and recommendations for the proposed information collections must be mailed within 30 days of this notice directly to the OMB desk officer: OMB Human Resources and Housing Branch, Attention: Allison Eydt (OS/OCR Complaint Forms), New Executive Office Building, Room 10235, Washington, DC 20503.

Dated: March 5, 2003.
Robert E. Polson,
Reports Clearance Officer, Office of the Secretary, Department of Health and Human Services,

[FR Doc. 03-5904 Filed 3-11-03; 8:45 am]

BILLING CODE 4153-01-M